DEPARTMENT OF THE TREASURY

Internal Revenue Service

26 CFR Parts 1 and 301

[REG-116664-01]

RIN 1545-BC15

Guidance Necessary To Facilitate Business Electronic Filing; Correction

AGENCY: Internal Revenue Service (IRS), Treasury.

ACTION: Correction to notice of proposed rulemaking by cross-reference to temporary regulations.

SUMMARY: This document contains corrections to a notice of proposed rulemaking by cross-reference to temporary regulations (REG-116664-01), which was published in the Federal Register on Friday, December 19, 2003 (68 FR 70747), relating to the elimination of regulatory impediments to the electronic filing of certain business income tax returns and other forms.

FOR FURTHER INFORMATION CONTACT: Nathan Rosen at (202) 622-4910 (not a toll-free number).

SUPPLEMENTARY INFORMATION:

Background

The notice of proposed rulemaking by cross-reference to temporary regulations that is the subject of these corrections is under section 170A of the Internal Revenue Code.

Need for Correction

As published, REG-116664-01 contains errors which may prove to be misleading and are in need of clarification.

Correction of Publication

Accordingly, the publication of the notice of proposed rulemaking by cross-reference to temporary regulations (REG-11664-01), which is the subject of FR Doc. 03-31239, is corrected as follows:

PART 1—INCOME TAXES

§ 1.1377-1 [Corrected]

1. On page 70749, column 1, instructional paragraph Par. 9., line 2, the language “by revising paragraphs (b)(2)(iii),” is corrected to read “by revising paragraphs”.

§ 1.1502-21 [Corrected]

2. On page 70749, column 1, paragraph (b)(2)(iii), the language “[The text of the proposed amendments to § 1.1502-21(b)(2)(iii) is the same as the text of § 1.1502-21T(b)(2)(iii) published elsewhere in this issue of the Federal Register].” Is corrected to read “(b) * * *“.

3. On page 70749, column 1, the five asterisks following paragraph (b)(2)(iii) are removed.

PART 301—PROCEDURE AND ADMINISTRATION

4. On page 70749, column 3, instructional paragraph Par. 13., line 2, the language “301 continues to read as follows:” is corrected to read “301 continues to read in part as follows:”.

Cynthia E. Grigsby,
Acting Chief, Publications & Regulations Branch, Legal Processing Division, Associate Chief Counsel, (Procedures & Administration).

[FR Doc. 04-2077 Filed 2-2-04; 8:45 am]

BILLING CODE 4830-01-P